DEPARTMENT OF COMMERCE

National Oceanic and Atmospheric Administration

Submission for OMB Review; Comment Request

The Department of Commerce will submit to the Office of Management and Budget (OMB) for clearance the following proposal for collection of information under the provisions of the Paperwork Reduction Act (44 U.S. C. Chapter 35).

Agency: National Oceanic and Atmospheric Administration (NOAA).

Title: Documentation of Fish Harvest.

OMB Control Number: 0648-0365.

Form Number(s): NA.

Type of Request: Regular (extension of a currently approved information collection).

Number of Respondents: 25.

Average Hours per Response: 30 minutes.

Burden Hours: 50.

Needs and Uses: This request is for extension of a currently approved information collection.

The seafood dealers who process red porgy, gag, black grouper, or greater amberjack during seasonal fishery closures must maintain documentation, as specified in 50 CFR part 300 subpart K, that such fish were harvested from areas other than the South Atlantic. The documentation includes information on the vessel that harvested the fish and on where and when the fish were offloaded. The information is required for the enforcement of fishery regulations.

Affected Public: Businesses or other for-profit organizations; individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 18, 2015.
Sarah Brabson,
NOAA PRA Clearance Officer.

[FR Doc. 2015-15446 Filed 6-23-15; 8:45 am]

BILLING CODE 3510-22-P